COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a public hearing to hear testimony on the civil rights issues related to legal financial obligations in Tennessee.

DATES: Tuesday, January 8, 2019 from 09:45 a.m.-4:30 p.m.

ADDRESSES: Nashville Public Library, 615 Church Street, Nashville, Tennessee 37219

FOR FURTHER INFORMATION CONTACT: Jeff Hinton, GFO, at jhinton@usccr.gov.

SUPPLEMENTARY INFORMATION: Members of the public are invited to come in and listen to the discussion. Written comments will be accepted until February 8, 2019 and may be mailed to the Regional Program Unit Office, U.S. Commission on Civil Rights, 230 S Dearborn, Suite 2120, Chicago, IL 60604. They may also be faxed to the Commission at (312) 353-8324 or may be emailed to Jeff Hinton at jhinton@usccr.gov. Records of the meeting will be available via www.facadatabase.gov under the Commission on Civil Rights, Tennessee Advisory Committee link. Persons interested in the work of this Committee are directed to the Commission's website, http://www.usccr.gov, or may contact the Southern Regional Office at the above email or street address.

Agenda

□ Opening Remarks and Introductions (9:45 a.m.-9:55 a.m.)

□ Panel 1: (10:00 a.m.-10:55 a.m.)

□ Panel 2: (11:00 a.m.-11:55 a.m.)

□ Open Forum/Personal Testimony: (12:00 p.m.-12:30 p.m.)

□ Break (12:30 p.m.-2:30 p.m.)

□ Panel 3: (1:30 p.m.-2:255 p.m.)

□ Panel 4: (2:30 p.m.-3:55 p.m.)

□ Open Forum (4:00-4:30 p.m.)

□ Adjournment

Dated: December 5, 2018.
David Mussatt,
Supervisory Chief, Regional Programs Unit.

[FR Doc. 2018-26743 Filed 12-10-18; 8:45 am]

BILLING CODE P